DEPARTMENT OF TRANSPORTATION

Federal Aviation Administration

14 CFR Part 97

[Docket No. 30676; Amdt. No. 3330]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 21, 2009. The compliance date for each SIAP, associated Takeoff Minimums, and ODP is specified in the amendatory provisions.

The incorporation by reference of certain publications listed in the regulations is approved by the Director of the Federal Register as of July 21, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125); Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on July 10, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 27 AUG 2009

Deering, AK, Deering, Takeoff Minimums and Obstacle DP, Amdt 1

Egegik, AK, Egegik, Takeoff Minimums and Obstacle DP, Orig

Kaltag, AK, Kaltag, RNAV (GPS) RWY 21, Amdt 1

Koliganek, AK, Koliganek, Takeoff Minimums and Obstacle DP, Amdt 2

Koyuk, AK, Koyuk Alfred Adams, Takeoff Minimums and Obstacle DP, Amdt 1

Scammon Bay, AK, Scammon Bay, Takeoff Minimums and Obstacle DP, Amdt 1

Shaktoolik, AK, Shaktoolik, RNAV (GPS) RWY 14, Orig

Shaktoolik, AK, Shaktoolik, RNAV (GPS) RWY 32, Orig

Shaktoolik, AK, Shaktoolik, Takeoff Minimums and Obstacle DP, Orig

Teller, AK, Teller, Takeoff Minimums and Obstacle DP, Orig

Enterprise, AL, Enterprise Muni, RNAV (GPS) RWY 5, Amdt 1

Enterprise, AL, Enterprise Muni, Takeoff Minimums and Obstacle DP, Orig

Foley, AL, Foley Muni, NDB RWY 18, Amdt 1

Foley, AL, Foley Muni, RNAV (GPS) RWY 18, Amdt 1

Foley, AL, Foley Muni, RNAV (GPS) RWY 36, Amdt 1

Foley, AL, Foley Muni, Takeoff Minimums and Obstacle DP, Amdt 1

Mobile, AL, Mobile Downtown, ILS OR LOC RWY 32, Amdt 2

Mobile, AL, Mobile Downtown, RNAV (GPS) RWY 32, Amdt 1

Mobile, AL, Mobile Downtown, VOR RWY 32, Amdt 11B

Texarkana, AR, Texarkana Rgnl—Webb Field, ILS OR LOC RWY 22, Amdt 16

Texarkana, AR, Texarkana Rgnl—Webb Field, LOC BC RWY 4, Amdt 13

Flagstaff, AZ, Flagstaff Pulliam, GPS RWY 21, Orig-B, CANCELLED

Flagstaff, AZ, Flagstaff Pulliam, RNAV (GPS) Y RWY 21, Orig

Flagstaff, AZ, Flagstaff Pulliam, RNAV (GPS) Z RWY 21, Orig

Grand Junction, CO, Grand Junction Rgnl, RNAV (GPS) RWY 11, Amdt 1

Chester, CT, Chester, RNAV (GPS) RWY 17, Orig

Chester, CT, Chester, RNAV (GPS) RWY 35, Orig

Chester, CT, Chester, VOR-A, Amdt 4

Chester, CT, Chester, VOR/DME RNAV OR GPS RWY 17, Amdt 2, CANCELLED

Chester, CT, Chester, VOR/DME RNAV OR GPS RWY 35, Amdt 1A, CANCELLED

Immokalee, FL, Immokalee Rgnl, RNAV (GPS) RWY 9, Orig

Immokalee, FL, Immokalee Rgnl, RNAV (GPS) RWY 18, Orig

Immokalee, FL, Immokalee Rgnl, RNAV (GPS) RWY 27, Orig

Immokalee, FL, Immokalee Rgnl, RNAV (GPS) RWY 36, Orig

Immokalee, FL, Immokalee Rgnl, Takeoff Minimums and Obstacle DP, Amdt 1

Immokalee, FL, Immokalee Rgnl, VOR RWY 18, Amdt 6

Orlando, FL, Orlando Intl, ILS OR LOC RWY 17L, ILS RWY17L (CAT II), Amdt 1

Orlando, FL, Orlando Intl, ILS OR LOC RWY 17R, ILS RWY 17R (CAT II), Amdt 5

Orlando, FL, Orlando Intl, ILS OR LOC RWY 18R, Amdt 8

Orlando, FL, Orlando Intl, ILS OR LOC RWY 35L, ILS RWY 35L (CAT II), ILS RWY 35L (CAT III), Amdt 6

Orlando, FL, Orlando Intl, ILS OR LOC RWY 35R, ILS RWY 35R (CAT II), Amdt 1

Orlando, FL, Orlando Intl, ILS OR LOC RWY 36R, ILS RWY 36R (CAT II), ILS RWY 36R (CAT III), Amdt 9

Orlando, FL, Orlando Intl, RNAV (GPS) RWY 17L, Orig-B, CANCELLED

Orlando, FL, Orlando Intl, RNAV (GPS) RWY 17R, Orig-C, CANCELLED

Orlando, FL, Orlando Intl, RNAV (GPS) RWY 18L, Amdt 1, CANCELLED

Orlando, FL, Orlando Intl, RNAV (GPS) RWY 18R, Orig-A, CANCELLED

Orlando, FL, Orlando Intl, RNAV (GPS) RWY 35L, Orig-B, CANCELLED

Orlando, FL, Orlando Intl, RNAV (GPS) RWY 35R, Orig-A, CANCELLED

Orlando, FL, Orlando Intl, RNAV (GPS) RWY 36L, Amdt 1, CANCELLED

Orlando, FL, Orlando Intl, RNAV (GPS) RWY 36R, Orig-B, CANCELLED

Orlando, FL, Orlando Intl, RNAV (GPS) Y RWY 17L, Orig

Orlando, FL, Orlando Intl, RNAV (GPS) Y RWY 17R, Orig

Orlando, FL, Orlando Intl, RNAV (GPS) Y RWY 18L, Orig

Orlando, FL, Orlando Intl, RNAV (GPS) Y RWY 18R, Orig

Orlando, FL, Orlando Intl, RNAV (GPS) Y RWY 35L, Orig

Orlando, FL, Orlando Intl, RNAV (GPS) Y RWY 35R, Orig

Orlando, FL, Orlando Intl, RNAV (GPS) Y RWY 36L, Orig

Orlando, FL, Orlando Intl, RNAV (GPS) Y RWY 36R, Orig

Orlando, FL, Orlando Intl, RNAV (RNP) Z RWY 17L, Orig

Orlando, FL, Orlando Intl, RNAV (RNP) Z RWY 17R, Orig

Orlando, FL, Orlando Intl, RNAV (RNP) Z RWY 18L, Orig

Orlando, FL, Orlando Intl, RNAV (RNP) Z RWY 18R, Orig

Orlando, FL, Orlando Intl, RNAV (RNP) Z RWY 35L, Orig

Orlando, FL, Orlando Intl, RNAV (RNP) Z RWY 35R, Orig

Orlando, FL, Orlando Intl, RNAV (RNP) Z RWY 36L, Orig

Orlando, FL, Orlando Intl, RNAV (RNP) Z RWY 36R, Orig

St Marys, GA, St Marys, RNAV (GPS) RWY 13, Amdt 1

St Marys, GA, St Marys, RNAV (GPS) RWY 31, Amdt 1

Boise, ID, Boise Air Terminal/Gowen Fld, RNAV (GPS) Y RWY 10L, Amdt 2A

Boise, ID, Boise Air Terminal/Gowen Fld, RNAV (GPS) Y RWY 10R, Amdt 1A

Boise, ID, Boise Air Terminal/Gowen Fld, RNAV (GPS) Y RWY 28L, Amdt 4

Boise, ID, Boise Air Terminal/Gowen Fld, RNAV (GPS) Y RWY 28R, Amdt 3

Boise, ID, Boise Air Terminal/Gowen Fld, RNAV (RNP) Z RWY 10L, Orig

Boise, ID, Boise Air Terminal/Gowen Fld, RNAV (RNP) Z RWY 10R, Orig

Boise, ID, Boise Air Terminal/Gowen Fld, RNAV (RNP) Z RWY 28L, Orig

Boise, ID, Boise Air Terminal/Gowen Fld, RNAV (RNP) Z RWY 28R, Orig

Peoria, IL, Mount Hawley Auxiliary, RNAV (GPS) RWY 18, Orig

Peoria, IL, Mount Hawley Auxiliary, Takeoff Minimums and Obstacle DP, Amdt 2

Peoria, IL, Mount Hawley Auxiliary, VOR-A, Amdt 4

North Vernon, IN, North Vernon, GPS RWY 23, Orig-A, CANCELLED

North Vernon, IN, North Vernon, NDB OR GPS RWY 5, Amdt 5, CANCELLED

North Vernon, IN, North Vernon, RNAV (GPS) RWY 5, Orig

North Vernon, IN, North Vernon, RNAV (GPS) Y RWY 23, Orig

North Vernon, IN, North Vernon, RNAV (GPS) Z RWY 23, Orig

North Vernon, IN, North Vernon, Takeoff Minimums and Obstacle DP, Orig

South Bend, IN, South Bend Rgnl, RNAV (GPS) RWY 36, Amdt 1

South Bend, IN, South Bend Rgnl, Takeoff Minimums and Obstacle DP, Amdt 9

Oakdale, LA, Allen Parish, RNAV (GPS) RWY 18, Orig

Oakdale, LA, Allen Parish, RNAV (GPS) RWY 36, Amdt 2

Shreveport, LA, Shreveport Rgnl, ILS OR LOC RWY 14, ILS RWY 14

(CAT II), Amdt 25

Shreveport, LA, Shreveport Rgnl, ILS OR LOC RWY 32, Amdt 5

Shreveport, LA, Shreveport Rgnl, RNAV (GPS) RWY 5, Amdt 1

Shreveport, LA, Shreveport Rgnl, RNAV (GPS) RWY 14, Amdt 1

Shreveport, LA, Shreveport Rgnl, RNAV (GPS) RWY 32, Amdt 1

Marshfield, MA, Marshfield Muni-George Harlow Field, NDB RWY 24, Amdt 2

Ocean City, MD, Ocean City Muni, RNAV (GPS) RWY 32, Orig

Pontiac, MI, Oakland County Intl, ILS OR LOC RWY 9R, Amdt 12

Winona, MN, Winona Muni-Max Conrad Fld, LOC RWY 30, Orig

Winona, MN, Winona Muni-Max Conrad Fld, NDB RWY 30, Orig

Maryville, MO, Northwest Missouri Rgnl, RNAV (GPS) RWY 32, Orig

New Madrid, MO, County Memorial, RNAV (GPS) RWY 18, Orig

New Madrid, MO, County Memorial, RNAV (GPS) RWY 36, Orig

New Madrid, MO, County Memorial, VOR/DME-A, Amdt 4

New Madrid, MO, County Memorial, VOR/DME RNAV OR GPS RWY 18,

Amdt 1B, CANCELLED

St Louis, MO, Spirit of St Louis, ILS OR LOC RWY 8R, Amdt 14

St Louis, MO, Spirit of St Louis, NDB RWY 26L, Amdt 3

St Louis, MO, Spirit of St Louis, RNAV (GPS) RWY 8L, Orig

St Louis, MO, Spirit of St Louis, RNAV (GPS) RWY 8R, Orig

St Louis, MO, Spirit of St Louis, RNAV (GPS) RWY 26L, Orig

St Louis, MO, Spirit of St Louis, RNAV (GPS) RWY 26R, Orig

Sullivan, MO, Sullivan Rgnl, GPS RWY 24, Orig CANCELLED

Sullivan, MO, Sullivan Rgnl, RNAV (GPS) RWY 6, Orig

Sullivan, MO, Sullivan Rgnl, RNAV (GPS) RWY 24, Orig

Aberdeen/Amory, MS, Monroe County, RNAV (GPS) RWY 18, Amdt 1

Aberdeen/Amory, MS, Monroe County, RNAV (GPS) RWY 36, Amdt 1

Aberdeen/Amory, MS, Monroe County, VOR RWY 18, Amdt 7

Missoula, MT, Missoula Intl, RNAV (GPS) Y RWY 11, Amdt 1

Missoula, MT, Missoula Intl, RNAV (RNP) RWY 29, Orig

Missoula, MT, Missoula Intl, RNAV (RNP) Z RWY 11, Orig

Devils Lake, ND, Devils Lake Rgnl, GPS RWY 13, Orig-A, CANCELLED

Devils Lake, ND, Devils Lake Rgnl, GPS RWY 31, Orig-A, CANCELLED

Devils Lake, ND, Devils Lake Rgnl, RNAV (GPS) RWY 13, Orig

Devils Lake, ND, Devils Lake Rgnl, RNAV (GPS) RWY 31, Orig

Jamestown, ND, Jamestown Rgnl, RNAV (GPS) RWY 31, Orig

Jamestown, ND, Jamestown Rgnl, VOR RWY 31, Amdt 9

Tioga, ND, Tioga Muni, GPS RWY 30, Orig, CANCELLED

Tioga, ND, Tioga Muni, RNAV (GPS) RWY 30, Orig

Tioga, ND, Tioga Muni, Takeoff Minimums and Obstacle DP, Orig

Minden, NE, Pioneer Village Field, GPS RWY 34, Orig-A, CANCELLED

Minden, NE, Pioneer Village Field, RNAV (GPS) RWY 16, Orig

Minden, NE, Pioneer Village Field, RNAV (GPS) RWY 34, Orig

Minden, NE, Pioneer Village Field, Takeoff Minimums and Obstacle DP, Amdt 1

Rushville, NE, Modisett, RNAV(GPS)RY 14, Orig

Rushville, NE, Modisett, RNAV(GPS)RY 32, Orig

Rushville, NE, Modisett, Takeoff Minimums and Obstacle DP, Orig

Manchester, NH, Manchester, RNAV (GPS) RWY 6, Amdt 2

Manchester, NH, Manchester, RNAV (GPS) RWY 35, Orig

Old Bridge, NJ, Old Bridge, RNAV (GPS) RWY 6, Orig

Old Bridge, NJ, Old Bridge, RNAV (GPS) RWY 24, Orig

Old Bridge, NJ, Old Bridge, Takeoff Minimums and Obstacle DP, Amdt 1

Old Bridge, NJ, Old Bridge, VOR RWY 24, Amdt 4

Woodbine, NJ, Woodbine Muni, GPS RWY 1, Orig-B, CANCELLED

Woodbine, NJ, Woodbine Muni, GPS RWY 19, Orig-B, CANCELLED

Woodbine, NJ, Woodbine Muni, RNAV (GPS) RWY 1, Orig

Woodbine, NJ, Woodbine Muni, RNAV (GPS) RWY 19, Orig

Woodbine, NJ, Woodbine Muni, Takeoff Minimums and Obstacle DP, Amdt 2

Woodbine, NJ, Woodbine Muni, VOR-A, Amdt 1

Farmington, NM, Four Corner Rgnl, RNAV (GPS) RWY 23, Amdt 1

Hobbs, NM, Lea County Rgnl, RNAV (GPS) RWY 3, Amdt 1

Socorro, NM, Socorro Muni, GPS RWY 33, Orig-B, CANCELLED

Socorro, NM, Socorro Muni, RNAV (GPS) Y RWY 33, Orig

Socorro, NM, Socorro Muni, RNAV (GPS) Z RWY 33, Orig

Socorro, NM, Socorro Muni, Takeoff Minimums and Obstacle DP, Amdt 3

Saratoga Springs, NY, Saratoga County, RNAV (GPS) RWY 23, Amdt 1

Ottawa, OH, Putnam County, RNAV (GPS) RWY 9, Orig

Ottawa, OH, Putnam County, RNAV (GPS) RWY 27, Orig

Ottawa, OH, Putnam County, Takeoff Minimums and Obstacle DP, Orig

Ottawa, OH, Putnam County, VOR RWY 27, Amdt 2

Wilmington, OH, Airborne Airpark, RNAV (GPS) RWY 4L, Orig

Wilmington, OH, Airborne Airpark, RNAV (GPS) RWY 22R, Orig

Wilmington, OH, Airborne Airpark, Takeoff Minimums and Obstacle DP, Orig

Wilmington, OH, Airborne Airpark, VOR/DME RWY 22R, Amdt 5

Claremore, OK, Claremore Rgnl, RNAV (GPS) RWY 17, Orig

Claremore, OK, Claremore Rgnl, RNAV (GPS) RWY 35, Amdt 2

Claremore, OK, Claremore Rgnl, Takeoff Minimum and Obstacle DP, Orig

Tulsa, OK, Tulsa Intl, RNAV (GPS) RWY 18R, Amdt 1

Tulsa, OK, Tulsa Intl, RNAV (GPS) RWY 26, Amdt 2

Tulsa, OK, Tulsa Intl, RNAV (GPS) RWY 36R, Amdt 1

Woodward, OK, West Woodward, GPS RWY 17, Orig, CANCELLED

Woodward, OK, West Woodward, GPS RWY 35, Amdt 1, CANCELLED

Woodward, OK, West Woodward, RNAV (GPS) RWY 17, Orig

Woodward, OK, West Woodward, RNAV (GPS) RWY 35, Orig

Pottsville, PA, Schuylkill County/Joe Zerbey, RNAV (GPS) RWY 11, Amdt 1

Pottsville, PA, Schuylkill County/Joe Zerbey, RNAV (GPS) RWY 29, Amdt 1

Pottsville, PA, Schuylkill County/Joe Zerbey, Takeoff Minimums and Obstacle DP, Amdt 2

York, PA, York, GPS RWY 35, Amdt 2A, CANCELLED

York, PA, York, RNAV (GPS) RWY 17, Amdt 1

York, PA, York, RNAV (GPS) RWY 35, Orig

Columbia, SC, Columbia Metropolitan, ILS OR LOC RWY 11, ILS RWY 11 (CAT II), ILS RWY 11 (CAT III), Amdt 15

Columbia, SC, Columbia Metropolitan, RNAV (GPS) RWY 5, Amdt 2

Columbia, SC, Columbia Metropolitan, RNAV (GPS) RWY 11, Amdt 1

Columbia, SC, Columbia Metropolitan, RNAV (GPS) RWY 23, Amdt 2

Columbia, SC, Columbia Metropolitan, RNAV (GPS) RWY 29, Amdt 1

Columbia, SC, Columbia Metropolitan, Takeoff Minimums and Obstacle DP, Amdt 1

Columbia, SC, Columbia Metropolitan, VOR-A, Amdt 16

Aberdeen, SD, Aberdeen Rgnl, RNAV (GPS) RWY 13, Orig

Aberdeen, SD, Aberdeen Rgnl, RNAV (GPS) RWY 31, Orig

Huron, SD, Huron Rgnl, ILS OR LOC RWY 12, Amdt 10

Huron, SD, Huron Rgnl, NDB RWY 12, Amdt 20C, CANCELLED

Huron, SD, Huron Rgnl, RNAV (GPS) RWY 12, Orig

Huron, SD, Huron Rgnl, Takeoff Minimums and Obstacle DP, Amdt 5

Huron, SD, Huron Rgnl, VOR RWY 12, Amdt 22

Camden, TN, Benton County, RNAV (GPS) RWY 4, Orig

Camden, TN, Benton County, RNAV (GPS) RWY 22, Orig

Camden, TN, Benton County, Takeoff Minimums and Obstacle DP, Amdt 1

Camden, TN, Benton County, VOR/DME RWY 4, Amdt 4

Memphis, TN, Memphis Intl, RNAV (RNP) X RWY 18R, Orig-A

Fort Stockton, TX, Fort Stockton-Pecos County, RNAV (GPS) RWY 12, Amdt 1

Fort Stockton, TX, Fort Stockton-Pecos County, RNAV (GPS) RWY 30, Amdt 1

Fort Stockton, TX, Fort Stockton-Pecos County, Takeoff Minimums and

Obstacle DP, Orig

Midlothian/Waxahachie, TX, Mid-Way Rgnl, GPS RWY 36, Orig, CANCELLED

Midlothian/Waxahachie, TX, Mid-Way Rgnl, RNAV (GPS) RWY 36, Orig

Wharton, TX, Wharton Rgnl, RNAV (GPS) RWY 14, Orig

Wharton, TX, Wharton Rgnl, RNAV (GPS) RWY 32, Orig

Wharton, TX, Wharton Rgnl, Takeoff Minimums and Obstacle DP, Orig

Wharton, TX, Wharton Rgnl, VOR/DME-A, Amdt 5

Platteville, WI, Platteville Muni, GPS RWY 33, Orig, CANCELLED

Platteville, WI, Platteville Muni, RNAV (GPS) RWY 7, Orig

Platteville, WI, Platteville Muni, RNAV (GPS) RWY 15, Orig

Platteville, WI, Platteville Muni, RNAV (GPS) RWY 25, Orig

Platteville, WI, Platteville Muni, RNAV (GPS) RWY 33, Orig

Platteville, WI, Platteville Muni, Takeoff Minimums and Obstacle DP, Orig

Wheeling, WV, Wheeling Ohio Co, ILS OR LOC RWY 3, Amdt 22

Wheeling, WV, Wheeling Ohio Co, RNAV (GPS) RWY 3, Orig

Wheeling, WV, Wheeling Ohio Co, RNAV (GPS) RWY 16, Orig

Wheeling, WV, Wheeling Ohio Co, RNAV (GPS) RWY 21, Orig-A

Wheeling, WV, Wheeling Ohio Co, RNAV (GPS) RWY 34, Orig

Kemmerer, WY, Kemmerer Muni, RNAV (GPS) RWY 16, Amdt 1

Kemmerer, WY, Kemmerer Muni, RNAV (GPS) RWY 34, Amdt 1

Kemmerer, WY, Kemmerer Muni, Takeoff Minimums and Obstacle DP, Amdt 1

[FR Doc. E9-17110 Filed 7-20-09; 8:45 am]

BILLING CODE 4910-13-P